DEPARTMENT OF STATE

[Public Notice 4295]

Culturally Significant Objects Imported for Exhibition Determinations: “Quiet Beauty: Fifty Centuries of Japanese Folk Ceramics From the Montgomery Collection”

DEPARTMENT: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “Quiet Beauty: Fifty Centuries of Japanese Folk Ceramics from the Montgomery Collection,” imported from abroad for temporary exhibition within the United States, are of cultural significance. The objects are imported pursuant to loan agreements with the foreign owners. I also determine that the exhibition or display of the exhibit objects at Bard Graduate Center for Studies in the Decorative Arts, Design and Culture, New York, New York, March 27-June 15, 2003; Frederik Meijer Gardens, Grand Rapids, Michigan, August 23-January 4, 2004; Honolulu Academy of Arts, Honolulu, Hawaii, January 31, 2004-April 11, 2004; Tyler Museum of Art, Tyler, Texas, May 8, 2004 July 18, 2004; Society of the Four Arts, Palm Beach, Florida, March 4, 2005-April 10, 2005; and at possible additional venues yet to be determined, is in the national interest. Public Notice of these Determinations is ordered to be published in the Federal Register.

FOR FURTHER INFORMATION CONTACT: For further information, including a list of the exhibit objects, contact Orde F. Kittrie, Attorney-Adviser, Office of the Legal Adviser, U.S. Department of State, (telephone: 202/401-4779). The address is U.S. Department of State, SA-44, 301 4th Street, SW., Room 700, Washington, DC 20547-0001.

Dated: February 27, 2003.
Patricia S. Harrison,
Assistant Secretary for Educational and Cultural Affairs, Department of State.

[FR Doc. 03-5761 Filed 3-10-03; 8:45 am]

BILLING CODE 4710-08-P